ENVIRONMENTAL PROTECTION AGENCY

40 CFR Part 52

[EPA-R07-OAR-2014-0163; FRL-9921-18-Region 7]

Approval and Promulgation of Implementation Plans; State of Iowa

AGENCY: Environmental Protection Agency.

ACTION: Proposed rule.

SUMMARY: The Environmental Protection Agency (EPA) is proposing to approve revisions to the State Implementation Plan (SIP) for the State of Iowa. The purpose of these revisions is to update the Polk County Board of Health Rules and Regulations, Chapter V, Air Pollution. These proposed revisions reflect updates to the Iowa statewide rules previously approved by EPA and will ensure consistency between the applicable local agency rules and Federally-approved rules. On April 15, 2014, the state amended their request and notified EPA that it is withdrawing their requests to approve to adopt greenhouse gases definition and sections relating to greenhouse gas emissions. This withdrawal request is in recognition of the July 12, 2013, U.S. Court of Appeals for the District of Columbia decision which vacated the regulation known as the “biogenic deferral rule”. On October 31, 2014, the state requested that EPA withdraw their request to approve the definition of anaerobic lagoon.

DATES: Comments on this proposed action must be received in writing by February 11, 2015.

ADDRESSES: Submit your comments, identified by Docket ID No. EPA-R07-OAR-2014-0163 by mail to: Heather Hamilton, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Heather Hamilton at (913) 551-7039, or by email at Hamilton.heather@epa.gov.

SUPPLEMENTARY INFORMATION: In the final rules section of this Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of the rule and if that part can be severed from the remainder of the rule, EPA may adopt as final those parts of the rule that are not the subject of an adverse comment. For additional information, see the direct final rule which is located in the rules section of this Federal Register.

List of Subjects in 40 CFR Part 52

Environmental protection, Air pollution control, Intergovernmental relations, Incorporation by reference, Lead, Reporting and recordkeeping requirements.

Dated: December 19, 2014.
Karl Brooks,
Regional Administrator, Region 7.

For the reasons stated in the preamble, the Environmental Protection Agency proposes to amend 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entry for “CHAPTER V” to read as follows:

§ 52.820 Identification of plan.

* * * * *

(c) * * *

EPA-Approved Iowa Regulations
Iowa citation | Title | State effective date | EPA approval date | Explanation
Iowa Department of Natural Resources Environmental Protection Commission [567]
* * * * * * *
Polk County
CHAPTER V | Polk County Board of Health Rules and Regulations Air Pollution Chapter V | 08/05/13 | January 12, 2015 [Insert Federal Register citation] | Article I, Section 5-2, definition of “variance,” “anaerobic lagoon,” and “greenhouse gases”; Article III, Incineration and Open Burning, Section 5-7(d) Variance Application; Article VI, Sections 5-16(n), (o) and (p); Article VIII; Article IX, Sections 5-27(3) and (4); Article X, Section 5-28, subsections (a) through (c), and Article X, Section 5-35(b)(5); Article XIII; and Article XVI, Section 5-75 are not part of the SIP. Article VI, Section 5-17, adopted by Polk County on 7/26/2011, is not part of the SIP, and the previously approved version of Article VI, Section 5-17 remains part of the SIP.

* * * * *

[FR Doc. 2015-00080 Filed 1-9-15; 8:45 am]

BILLING CODE 6560-50-P